DEPARTMENT OF ENERGY

Federal Energy Regulatory Commission

[Docket Nos. CP06-458-000]

Natural Gas Pipeline Company of America; Notice of Application

September 25, 2006.

Take notice that on September 14, 2006, Natural Gas Pipeline Company of America (Natural), 747 East 22nd Street, Lombard, Illinois 60148, filed in Docket No. CP06-458-000 an application pursuant to sections 7 (b) and (c) of the Natural Gas Act (NGA) and Part 157 of the Commission's Regulations, for:

(1) Permission and approval to abandon Natural's lease (and operation) of certain transmission facilities from The Peoples Gas Light and Coke Company (PGLC) in the City of Chicago (City), Illinois;

(2) Permission and approval to abandon, by sale to PGLC, certain minor facilities in the City owned by Natural located along PGLC owned facilities that will no longer be subject to lease by Natural; and

(3) Certificate authorization to acquire by lease (and to operate) certain transmission facilities from PGLC in the City pursuant to a new lease agreement between PGLC and Natural.

This application is on file with the Commission and open to public inspection. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Natural states that pursuant to lease agreements between Natural and PGLC dated July 10, 1947, February 20, 1950 and July 16, 1970, as amended April 20, 1976, Natural currently leases PGLC's Crawford Line Nos. 1, 2 and 3 and Calumet Line Nos. 1, 2 and 3 within the City. Natural further states it has executed a new lease agreement with PGLC dated April 5, 2006 that will replace the old lease agreements and which provides for an extension of term and a reduction of the leased property in the Calumet Area (the lease of property in the Crawford Area is to remain unchanged).

The new lease arrangement in the City will continue to provide Natural supervision, operation and control of facilities used by Natural to make deliveries to PGLC, Nicor Gas and Northern Indiana Public Service Company, three of Natural's largest transportation and storage customers. The new lease arrangement does not include PGLC's Calumet Line No. 3, which was removed to reflect PGLC's desire to control and operate that pipeline as part of its local distribution system in order to receive the supply of gas to be delivered to PGLC by Kinder Morgan Illinois (KMIP), a new interstate natural gas pipeline company (and Natural), at a new city gate station to be located near 138th Street and Torrence Avenue, which Natural is to construct, own and operate under its blanket certificate. KMIP and Natural are filing concurrently two related applications which involve KMIP constructing a new pipeline system (KMIP Project), including the long term lease of capacity from Natural,¹ and Natural abandoning by lease to KMIP certain capacity in existing pipelines owned by Natural.²

¹ KMIP is filing concurrently in Docket Nos. CP06-455-000, et al. a related application seeking the above authority.

² Natural is filing concurrently in Docket No. CP06-454-000 a related application seeking the above authority.

Natural seeks this abandonment/certificate authority to coincide with the abandonment and certificate authority requested by Natural and KMIP in the two related applications.

Any questions regarding this application should be directed to Bruce H. Newsome, Vice President, Natural Gas Pipeline Company of America, 747 East 22nd Street, Lombard, Illinois 60148 at (603) 691-3526.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a) (1) (iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: October 16, 2006.

Magalie R. Salas,
Secretary.

[FR Doc. E6-16005 Filed 9-28-06; 8:45 am]

BILLING CODE 6717-01-P